DEPARTMENT OF COMMERCE

National Oceanic and Atmospheric Administration

RIN 0648-XC896

Endangered and Threatened Species; Take of Anadromous Fish

AGENCY: National Marine Fisheries Service (NMFS), National Oceanic and Atmospheric Administration (NOAA), Commerce.

ACTION: Applications for three new scientific research permits.

SUMMARY: Notice is hereby given that NMFS has received three scientific research permit application requests relating to Pacific salmon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on October 31, 2013.

ADDRESSES: Written comments on the applications should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): endangered upper Columbia River (UCR).

Steelhead (O. mykiss): threatened UCR; threatened middle Columbia River (MCR).

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 18045

The Washington Department of Ecology (WDOE) is seeking a three-year permit to assess biological and habitat conditions in Wide Hollow Creek, a tributary to the Yakima River in Washington State. The creek is currently listed as water-quality impaired and the WDOE is attempting to determine the causes of that impairment. To that end, the researchers working under Permit 18045 would conduct water quality, habitat, and fish and macroinvertebrate assessments in the creek. The researchers would take chemical and temperature measurements, capture some insects, and conduct a single pass through a single stream reach (approximately 150 meters long) with a backpack electrofishing unit. They would use the information they gather to assess the community assemblage and the relative fish species abundance. Any listed steelhead the researchers encounter would simply be identified in the capture net and immediately released; they would not be removed from the stream. The research would benefit listed species by helping managers design actions to address water and habitat quality impairments in the stream and thus make it more habitable for listed fish in the future. It is possible, but unlikely, that a very small number of the captured fish may be killed as an inadvertent result of the research.

Permit 18049

The Colville Confederated Tribes (CCT) are seeking a five-year permit to monitor UCR steelhead population sizes, habitat use, and emigration rates in the Okanogan River and its tributaries in Washington State. The researchers would conduct their work in randomly-selected sites on eleven tributaries to the Okanogan River. They would capture juvenile steelhead using backpack electrofishing units and soft-mesh dipnets. The captured fish would be anesthetized and measured, and any steelhead greater than 95mm in fork length would be marked by experienced taggers with a 12mm passive integrated transponder (PIT) tag injected from a single-use needle. All fish less than 95mm in length would have their caudal fins clipped for marking purposes and, in some cases, the tissue would be retained for DNA analysis. The researchers would make two passes with the electrofishing unit in each stream reach. The research would benefit the listed fish in two ways: First, UCR steelhead status in the Okanogan River subbasin is poorly understood and the information generated by the research would fill that gap and thereby help managers design recovery strategies for the listed fish in that area; it would also help them guide and mitigate any future land management activities that could affect the fish. Second, the collected genetic material would be used to examine the relationship between natural and hatchery fish in the area—and given that hatchery influence is considered a limiting factor for the UCR steelhead, more knowledge about that interaction would help managers design actions to address the negative effects local hatchery programs may be having. The researchers do not intend to kill any of the fish being captured, but a small number may die as an inadvertent result of the research activities.

Permit 18079

The University of Idaho is seeking a two-year permit to study the effects of hyporheic exchange on the growth of post-emergent Chinook salmon. The research is designed to study hydrological exchange between surface and ground and determine the ways in which it may affect the factors that affect rearing conditions for juvenile salmon. The project has two components. The first component involves a cage experiment in which post-emergent hatchery Chinook salmon would be held and their growth monitored. The second component involves sampling wild (natural) post-emergent Chinook salmon to compare fish lengths and weights and estimate relative fish abundances. Both components would be carried out at up to 18 sites in the Methow River subbasin in Washington State. The first component would only affect hatchery fish that have already been accounted for in a hatchery plan of operations (Winthrop hatchery). The second component of the study would involve fish snorkeling surveys supplemented by dip netting three times before and after cage experiments to measure relative fish abundance in groundwater upwelling and downwelling areas at the selected sites. The fish would be captured, anaesthetized with MS-222 and a buffer solution, measured, weighed, and released. The research would produce important information on how a key river characteristic (groundwater/surface water exchange) affects salmonid growth and survival. The researchers do not intend to kill any fish, but a small number may die as an inadvertent result of the research.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: September 26, 2013.
Angela Somma,
Chief, Endangered Species Division, Office of Protected Resources, National Marine Fisheries Service.

[FR Doc. 2013-23893 Filed 9-30-13; 8:45 am]

BILLING CODE 3510-22-P